DEPARTMENT OF DEFENSE

Department of the Army; Corps of Engineers

Notice of Availability for the Final Environmental Impact Statement/Environmental Impact Report for the Newhall Ranch Resource Management and Development Plan and Spineflower Conservation Plan, Los Angeles County, CA

AGENCY: Department of the Army—U.S. Army Corps of Engineers, DoD.

ACTION: Notice of availability.

SUMMARY: The U.S. Army Corps of Engineers, Los Angeles District (Regulatory Division), in coordination with the California Department of Fish and Game (CDFG), has completed a Final Environmental Impact Statement/Environmental Impact Report (EIS/EIR) for the Newhall Ranch Resource Management and Development Plan and Spineflower Conservation Plan. The project proponent and landowner, The Newhall Land and Farming Company, requires a long-term Section 404 permit from the Corps of Engineers for permanent impacts to approximately 93.3 acres of waters of the United States, including, 20.5 acres of wetlands, for the construction of various facilities in waters of the United States associated with the development of a new community composed of a broad range of residential, mixed-use and nonresidential land uses in the 12,000-acre project area located in Santa Clarita, Los Angeles County, California. The Corps considered all comments received in preparing the Final EIS/EIR, which is available for a 30-day review. The Final EIS/EIR includes a draft general conformity determination (see Section 3.2, Section 4.7 and Appendix D.7), pursuant to Section 176(c) of the Clean Air Act. A general conformity determination is necessary because construction of the proposed project would require Federal action (i.e., issuance of a Corps permit for activities proposed in waters of the U.S.) and not all the Federal action's direct and indirect emissions would be below specified de minimis thresholds (40 CFR 93.153(b)). Pursuant to the general conformity regulations (40 CFR part 93 Subpart B), general conformity determinations do not have to be included in the EIS and can be separately noticed, but the draft general conformity determination for the Federal action associated with the proposed project is being included in the Final EIS/EIR in this case.

The Final EIS/EIR, including the draft general conformity determination and a Draft 404(b)(1) alternatives analysis, is available for public review during the next 30 days at the U.S. Army Corps of Engineers Ventura Office, 2151 Alessandro Drive, Suite 110, Ventura, California; in addition, the Final EIS/EIR, including the draft general conformity determination, is available at the following libraries: County of Los Angeles Newhall Branch, Castaic Branch, Sylmar Branch, Valencia Branch; County of Ventura Fillmore Branch and H.P. Wright Library Branch. The Final EIS/EIR is available at the Corps' Web site: http://www.spl.usace.army.mil/regulatory/NewhallRanch.htm (see links under Newhall Ranch) and it is also available via the CDFG's Web page: http://www.dfg.ca.gov/regions/5/newhall/. Any comments received by the Corps on the Final EIS/EIR or the included draft general conformity determination during the next 30 days will be considered fully before the Corps makes a final general conformity determination and finalizes the Record of Decision (ROD) for the Federal action associated with the proposed project. The Corps will publish a notice of a final general conformity determination in the Federal Register within 30 days of rendering a final decision. The public can request from the Corps copies of the ROD, which includes responses to comments on the Final EIS/EIR, including any on the draft general conformity determination, following publication of a final general conformity determination and upon execution of the ROD.

FOR FURTHER INFORMATION CONTACT: Questions or comments concerning the Final EIS/EIR or the included draft general conformity determination should be directed within the next 30 days to Dr. Aaron O. Allen, Chief, North Coast Branch, Regulatory Division, U.S. Army Corps of Engineers, 2151 Alessandro Drive, Suite 110, Ventura, California 93001, (805) 585-2148.

SUPPLEMENTARY INFORMATION: None.

David J. Castanon,
Chief, Regulatory Division, Los Angeles District.

[FR Doc. 2010-14802 Filed 6-17-10; 8:45 am]

BILLING CODE 3720-58-P